DEPARTMENT OF TRANSPORTATION

Federal Highway Administration

Cancellation of Environmental Impact Statement; Galveston County, TX

AGENCY: Federal Highway Administration (FHWA), TxDOT.

ACTION: Cancellation of Bolivar Bridge EIS.

SUMMARY: In Vol. 7, No. 28/Friday, February 10, 2006/Notices, FHWA issued a Notice of Intent to advise the public that an Environmental Impact Statement (EIS) would be prepared for a proposed SH Highway (SH 87) bridge connecting Galveston Island and Bolivar Peninsula in Galveston County, Texas. The project is now cancelled; therefore, no further project activities will occur.

FOR FURTHER INFORMATION CONTACT: Mr. Donald Davis, Federal Highway Administration, Texas Division, 300 East 8th Street, Room 826, Austin, Texas 78701, Telephone (512) 536-5960.

Issued on: January 17, 2008.
Donald Davis,
District Engineer, FHWA Texas Division.

[FR Doc. 08-385 Filed 1-29-08; 8:45 am]

BILLING CODE 4910-22-M